DEPARTMENT OF COMMERCE

International Trade Administration

Application for Duty-Free Entry of Scientific Instrument

Pursuant to Section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Application may be examined between 8:30 A.M. and 5:00 P.M. in Room 4211, U.S. Department of Commerce, 14th Street and Constitution Avenue, NW, Washington, DC.

Docket Number: 00-005.

Applicant: Ohio State University, OARDC, 1680 Madison Avenue, Wooster, OH 44691.

Instrument: Electron Microscope, Model H-7500-1.

Manufacturer: Hitachi Ltd., Japan.

Intended Use: The instrument is intended to be used for the study of agriculturally important pathogens in animals and various crops. The objectives of these experiments are to understand the molecular mechanisms underlying pathogenicity in agriculturally important animals and plants and improve yields. In addition, the instrument will be used for training students in electron microscopy techniques such as sample preparations and viewing as part of their graduate program. Application accepted by Commissioner of Customs: February 28, 2000.

Frank W. Creel,
Director, Statutory Import Programs Staff.

[FR Doc. 00-6550 Filed 3-15-00; 8:45 am]

BILLING CODE 3510-DS-P